DEPARTMENT OF ENERGY

National Nuclear Security Administration

Molybdenum-99 Stakeholders Meeting

AGENCY: National Nuclear Security Administration (NNSA), Department of Energy (DOE).

ACTION: Notice of open meeting.

SUMMARY: This notice announces an NNSA Molybdenum-99 (Mo-99) Stakeholders Meeting. This meeting will be held in a hybrid format.

DATES: Wednesday, June 22, 2022, 8:30 a.m.-5:30 p.m.; Thursday, June 23, 2022, 8:30 a.m.-5:30 p.m.

ADDRESSES: The meeting will be held in a hybrid format. Attendees can attend virtually via webcast using Zoom. Instructions for Zoom, as well as any updates to meeting times or agenda, can be found on the Mo-99 Stakeholders Meeting website at https://mo99.ne.anl.gov/2022stakeholders/. Attendees can also join in-person at the Fairfield Inn & Suites Chicago Downtown/River North, located at 60 West Illinois Street, Chicago, IL 60654. In-person attendance requires registration and is subject to conference room space limits, as described in the “Public Participation” section.

FOR FURTHER INFORMATION CONTACT: Max Postman, Office of Conversion, OfficeofConversion@nnsa.doe.gov or (202) 586-9114.

SUPPLEMENTARY INFORMATION:

Purpose of the Meeting

The American Medical Isotopes Production Act of 2012 (AMIPA) (Subtitle F, Title XXXI of the National Defense Authorization Act for Fiscal Year 2013 (Pub. L. 112-139)), enacted on January 2, 2013, directs the Secretary of Energy to carry out a technology-neutral program to support the domestic production of the medical isotope Molybdenum-99 (Mo-99) without the use of highly enriched uranium. As part of this program, AMIPA requires DOE to develop a program plan and annually update the program plan through public workshops. NNSA implements this requirement through the Mo-99 Stakeholders Meeting.

Tentative Agenda

• U.S. Government Mo-99 Program and Regulatory Updates

• Mo-99 Producer Updates

• U.S. Mo-99 Supply Status—Industry Perspectives

• Open Discussion and Q&A

• Tours of Molybdenum-99 Production Projects (In-Person Only)

Public Participation

The meeting is open to the public. It will be held strictly following COVID-19 precautionary measures. To provide a safe meeting environment, seating may be limited; attendees can request registration for in-person attendance via https://mo99.ne.anl.gov/2022stakeholders/ no later than 4:00 p.m. ET on Thursday, June 9, 2022. If the number of in-person registrants exceeds the available space, NNSA will inform the affected registrants of the need to attend virtually rather than in-person. NNSA welcomes the attendance of the public at the Mo-99 Stakeholders Meeting and will make every effort to accommodate persons with physical disabilities or special needs. If you require special accommodations due to a disability, please include that information in your online registration submission.

Signing Authority

This document of the Department of Energy was signed on May 19, 2022, by Joan Dix, Deputy Director, Office of Conversion, National Nuclear Security Administration, Office of Defense Nuclear Nonproliferation, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 19, 2022.
Treena V. Garrett,
Federal Register Liaison Officer, U.S. Department of Energy.

[FR Doc. 2022-11140 Filed 5-23-22; 8:45 am]

BILLING CODE 6450-01-P